DEPARTMENT OF TRANSPORTATION

Federal Aviation Administration

14 CFR Part 39

[Docket No. FAA-2014-0019; Directorate Identifier 2013-CE-045-AD; Amendment 39-17811; AD 2014-06-07]

RIN 2120-AA64

Airworthiness Directives; Alexander Schleicher, Segelflugzeugbau Gliders

AGENCY: Federal Aviation Administration (FAA), Department of Transportation (DOT).

ACTION: Final rule.

SUMMARY: We are adopting a new airworthiness directive (AD) for all Alexander Schleicher, Segelflugzeugbau Model ASK 21 gliders. This AD results from mandatory continuing airworthiness information (MCAI) issued by an aviation authority of another country to identify and correct an unsafe condition on an aviation product. The MCAI describes the unsafe condition as inadequate guidance for spin training operations. We are issuing this AD to require actions to address the unsafe condition on these products.

DATES: This AD is effective May 8, 2014.

The Director of the Federal Register approved the incorporation by reference of a certain publication listed in the AD as of May 8, 2014.

ADDRESSES: You may examine the AD docket on the Internet at http://www.regulations.gov by searching for and locating Docket No. FAA-2014-0019; or in person at Document Management Facility, U.S. Department of Transportation, Docket Operations, M-30, West Building Ground Floor, Room W12-140, 1200 New Jersey Avenue SE., Washington, DC 20590.

For service information identified in this AD, contact Alexander Schleicher GmbH & Co. Segelflugzeugbau, Alexander-Schleicher-Str. 1, D-36163 Poppenhausen, Germany; phone: +49 (0) 06658 89-0; fax: +49 (0) 06658 89-40; Internet: http://www.alexander-schleicher.de/; email: info@alexander-schleicher.de. You may review this referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to include an AD that would apply to all Alexander Schleicher, Segelflugzeugbau Model ASK 21 gliders. That NPRM was published in the Federal Register on January 15, 2014 (79 FR 2595). That NPRM proposed to correct an unsafe condition for the specified products and was based on mandatory continuing airworthiness information (MCAI) originated by an aviation authority of another country. The MCAI states:

ASK 21 sailplane spin characteristics can be controlled using tail ballast weights, ensuring that pilots of all weights can achieve the same spin results. Although the tail ballast weights were designed to control the centre of gravity of the sailplane, these weights significantly affect the inertia terms that govern the sailplane response to spin manoeuvres. Schleicher issued a Technical Note (TN) Nr. 4 in 1980 (mainly used in Switzerland) to provide instructions for the Aircraft Flight Manual (AFM) for spin training. These instructions did not provide proper protection against accomplishment of single seated flight with forgotten spin ballast installed.

Schleicher issued a TN Nr. 4a in 2004 to provide instructions to the Aircraft Flight Manual (AFM) amendments to address spin ballast installation and facilitate two seated spin training. However, these instructions did not provide proper guidance for the spin entry techniques. The safety margin in respect to inertia limits was marginal for pilot weights less than 70 kg on the front seat.

Furthermore, in one case, it was observed that a control surface gap was not sealed in accordance with design data approved for that aircraft.

Single seated flight with forgotten spin ballast installed, if not corrected, could lead to sailplane operation beyond its centre of gravity limits. Flights with low inertia momentum around Y axis (as a result of the low weight crew) could result in reduced safety margin in respect to inertia limits.

Improperly sealed control surface gap during spin recovery could lead to significant delay of recovery and reduced control of the sailplane.

To address these potential unsafe conditions, Schleicher issued TN Nr. 4b for ASK 21 model sailplanes and TN Nr. 7 for ASK 21 Mi model sailplanes to amend the associated AFM and Aircraft Maintenance Manual (AMM) procedures and installation of a cockpit placard, as applicable to sailplane model.

For the reasons described above, this AD requires amendment of the AFM, AMM and installation of a cockpit placard.

The MCAI can be found in the AD docket on the Internet at: http://www.regulations.gov/#!docketDetail;D=FAA-2014-0019-0002.

Comments

We gave the public the opportunity to participate in developing this AD. We received no comments on the NPRM (79 FR 2595, January 15, 2014) or on the determination of the cost to the public.

Conclusion

We reviewed the relevant data and determined that air safety and the public interest require adopting the AD as proposed except for minor editorial changes. We have determined that these minor changes:

• Are consistent with the intent that was proposed in the NPRM (79 FR 2595, January 15, 2014) for correcting the unsafe condition; and

• Do not add any additional burden upon the public than was already proposed in the NPRM (79 FR 2595, January 15, 2014).

Costs of Compliance

We estimate that this AD will affect 59 products of U.S. registry. We also estimate that it will take about 2.5 work-hours per product to comply with the basic requirements of this AD. The average labor rate is $85 per work-hour. Required parts will cost about $250 per product.

Based on these figures, we estimate the cost of the AD on U.S. operators to be $27,287.50, or $462.50 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating it in Docket No. FAA-2014-0019; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-06-07 Alexander Schleicher, Segelflugzeugbau: Amendment 39-17811; Docket No. FAA-2014-0019; Directorate Identifier 2013-CE-045-AD.

(a) Effective Date

This airworthiness directive (AD) becomes effective May 8, 2014.

(b) Affected ADs

None.

(c) Applicability

This AD applies to Alexander Schleicher, Segelflugzeugbau Model ASK 21 gliders, all serial numbers, certificated in any category, that have incorporated:

(1) Alexander Schleicher Segelflugzeugbau ASK 21 Technical Note No. 4, dated November 14, 1980; or

(2) Alexander Schleicher GmbH & Co. Segelflugzeugbau ASK 21 Technical Note 4a, dated November 25, 2004.

(d) Subject

Air Transport Association of America (ATA) Code 11: Placards and Markings.

(e) Reason

This AD was prompted by mandatory continuing airworthiness information (MCAI) originated by an aviation authority of another country to identify and correct an unsafe condition on an aviation product. The MCAI describes the unsafe condition as inadequate guidance for spin training operations. We are issuing this proposed AD to ensure the placard installed in the aircraft cockpit, the aircraft flight manual (AFM), and the instructions for continued airworthiness (ICA) all have adequate guidance for spin training operations.

(f) Actions and Compliance

Unless already done, do the following actions as specified in paragraphs (f)(1) through (f)(3) of this AD:

(1) For gliders modified following Alexander Schleicher Segelflugzeugbau ASK 21 Technical Note No. 4, dated November 14, 1980: Within 30 days after May 8, 2014 (the effective date of this AD), insert the amended pages into the glider's AFM and the ICA and install a cockpit placard following paragraph B) of the Action section in Alexander Schleicher GmbH & Co. Segelflugzeugbau ASK 21 Technical Note Nr. 4b, Issue for US registered gliders, dated October 31, 2013.

(2) For gliders modified following Alexander Schleicher GmbH & Co. Segelflugzeugbau ASK 21 Technical Note 4a, dated November 25, 2004: Within 30 days after May 8, 2014 (the effective date of this AD), insert the amended pages into the glider's AFM and the ICA following paragraph C) of the Action section in Alexander Schleicher GmbH & Co. Segelflugzeugbau ASK 21 Technical Note Nr. 4b, Issue for US registered gliders, dated October 31, 2013.

(3) For all affected gliders: An owner/operator (pilot) holding at least a private pilot certificate may insert the amended pages into the AFM and ICA of the glider required by paragraphs (f)(1) and (f)(2) of this AD and must enter the action into the aircraft records showing compliance with this AD following 14 CFR 43.9 (a)(1)-(4) and 14 CFR 91.417(a)(2)(v). The record must be maintained as required by 14 CFR 91.417, 121.380, or 135.439.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any aircraft to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0123, dated June 5, 2013, for related information. The MCAI can be found in the AD docket on the Internet at: http://www.regulations.gov/#!docketDetail;D=FAA-2014-0019-0002. You may also refer to Alexander Schleicher Segelflugzeugbau ASK 21 Technical Note No. 4, dated November 14, 1980; and Alexander Schleicher GmbH & Co. Segelflugzeugbau ASK 21 Technical Note 4a, dated November 25, 2004, for more information. For service information related to this AD, you may contact the manufacturer using the information found in paragraph (i)(3) of this AD.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Alexander Schleicher, Segelflugzeugbau Alexander Schleicher GmbH & Co. Segelflugzeugbau ASK 21 Technical Note Nr. 4b, Issue for US registered gliders, dated October 31, 2013.

(ii) Reserved.

(3) For Alexander Schleicher, Segelflugzeugbau service information identified in this AD, contact Alexander Schleicher GmbH & Co. Segelflugzeugbau, Alexander-Schleicher-Str. 1, D-36163 Poppenhausen, Germany; phone: +49 (0) 06658 89-0; fax: +49 (0) 06658 89-40; Internet: http://www.alexander-schleicher.de/; email: info@alexander-schleicher.de.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html

Issued in Kansas City, Missouri, on March 19, 2014.
James E. Jackson,
Acting Manager, Small Airplane Directorate, Aircraft Certification Service.

[FR Doc. 2014-06627 Filed 4-2-14; 8:45 am]

BILLING CODE 4910-13-P